DEPARTMENT OF HOUSING AND URBAN DEVELOPMENT

[FR-5386-N-10]

Privacy Act; Notification of a New Privacy Act System of Records, Homeless Families Impact Study Data Files

AGENCY: Office of the Chief Information Officer HUD.

ACTION: Notification of a New Privacy Act System of Records (SORN).

SUMMARY: HUD proposes to establish a new Privacy Act of 1974 (5 U.S.C. 552a), SORN. The proposed new SORN is the Homeless Families Impact Study Data Files (HFISDF). The records system will be used by HUD's Office of Policy Development and Research to study the effects of housing and services interventions for homeless families. Refer to the “Objective” caption to obtain detailed information about the purpose of this study.

DATES: Comments Due Date: November 3, 2010.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8:00 a.m. and 5:00 p.m. weekdays at the above address.

FOR FURTHER INFORMATION CONTACT: Donna Robinson-Staton, Departmental Privacy Act Officer, 451 Seventh Street, SW., Room 2256, Washington, DC 20410, Telephone Number (202) 402-8047. (This is not a toll-free number.) A telecommunication device for hearing-and speech-impaired individuals (TTY) is available at (800) 877-8339 (Federal Information Relay Service).

SUPPLEMENTARY INFORMATION: Pursuant to the Privacy Act of 1974 (5 U.S.C. 552a), as amended notice is given that HUD proposes to establish a new SORN as identified as Housing Families Impact Study Data Files.

Title 5 U.S.C. 552a(e)(4) and (11) provide that the public be afforded a 30-day period in which to comment on the new system of records.

The new system report was submitted to the Office of Management and Budget (OMB), the Senate Committee on Governmental Affairs, and the House Committee on Government Reform pursuant to paragraph 4c of Appendix 1 to OMB Circular No. A-130, “Federal Responsibilities for Maintaining Records About Individuals,” July 25, 1994 (59 FR 37914).

Authority: 5 U.S.C. 552a 88 Stat. 1896; 42 U.S.C. 3535(d).

Dated: September 15, 2010.
Jerry E. Williams,
Chief Information Officer.

HUD/PD&R-10

System name:

Homeless Families Impact Study Data Files

System location:

Homeless Families Impact Study Data Files are to be located at Abt Associates Inc., 55 Wheeler Street, Cambridge, MA; Abt Associates Inc., 4550 Montgomery Avenue, Bethesda, MD; and the AT&T Datacenter, 15 Enterprise Ave., Secaucus, NJ 07094.

Categories of individuals covered by the system:

Families enrolled in Homeless Families Impact Study.

Categories of records in the system:

Name; Social Security Number; study identifier; birth date; contact information (home address, telephone numbers, e-mail address); demographic characteristics of the family head (e.g., race/ethnicity, gender, marital status); number of children and other adults in the household (a roster of adults and children with the family head at baseline and spouse/partner and children not with the family head at baseline, and characteristics of these family members); income sources and total family income; employment and earnings for the family head; health (behavioral health and physical health of the family head); substance use; foster care history for the family head; exposure to domestic violence; housing status prior to shelter entry; homelessness history; barriers to housing; homeless program participation; contact information for family and friends; and assigned study intervention, and study involvement information.

Authority for maintenance of the system:

Sec. 501, 502, Housing and Urban Development Act of 1970 (Pub. L. 91-609), 12 U.S.C. 1701z-1, 1701z-2.

Purpose:

The U.S. Department of Housing and Urban Development (HUD) is undertaking an evaluation of the Impacts of Housing and Services Interventions for Homeless Families to provide research evidence to help federal policymakers, community planners, and local practitioners make sound decisions about the best ways to address homelessness among families. This study will compare four combinations of housing and service interventions for homeless families in a rigorous, multi-site experiment, to determine what interventions work best to promote family stability and well-being and, within the limits of statistical power, what sorts of families benefit most from each intervention. The interventions are: (1) Permanent housing subsidy without services (Subsidy Only); (2) Community-Based Rapid Re-housing (CBRR), consisting of temporary housing subsidy provided in conventional housing with limited supportive services; (3) temporary housing subsidy provided in facility-based housing with intensive services but no guarantee of a permanent subsidy (Project-Based Transitional Housing-PBTH); and (4) shelter, with whatever services the shelter ordinarily provides to its residents and any other assistance available in the community (Usual Care). This study will also exploit naturally occurring variation in program features within these categories and across sites to explore, non-experimentally, what features of programs seem most responsible for success.

Routine uses of records maintained in the system, including categories of users and the purposes of such uses:

■ Authorized AbtSRBI researchers will collect the data from participating families and will match these primary study data with other datasets for tracking (e.g., matching with change of address databases) to track and locate families throughout the study and to manage the data collection process.

■ A limited number of authorized Abt researchers will access personally identifying information to link data from one phase of data collection to another or to match primary study data with other datasets for data collection purposes (e.g., matching with HUD's public housing dataset to measure housing receipt).

■ Authorized Abt researchers will also use the data for statistical analysis and to develop findings for this research study.

■ Authorized Abt researchers may use the data to create a public use file of non-identifiable data for disclosure to authorized researchers for other purposes. The Department suspects or has confirmed that the security or confidentiality of information in the system of records has been compromised; the Department has determined that as a result of the suspected or confirmed compromise there is a risk of harm to economic or property interests, identity theft or fraud, or harm to the security or integrity of this system or other systems or programs (whether maintained by the HUD or another agency or entity) that rely upon the compromised information.

■ If the Department suspects or has confirmed that the security or confidentiality of information in the system of records has been compromised; or if the Department has determined that as a result of the suspected or confirmed compromise there is a risk of harm to economic or property interests, identity theft or fraud, or harm to the security or integrity of this system or other systems or programs (whether maintained by the HUD or another agency or entity) that rely upon the compromised information; than the disclosure made to such agencies, entities, and persons is reasonably necessary to assist in connection with the HUD's efforts to respond to the suspected or confirmed compromise and prevent, minimize, or remedy such harm.

Each data user's permissions will be defined based on the user's role on the project. For example, the local site interviewer will be able to review data for study participants only for his or her own specific site.Study data will be aggregated or de-identified at the highest level possible for each required, authorized use.

Abt Associates will not use or disclose the data for any purposes other than for the “The Impacts of Housing and Services Interventions for Homeless Families” study (“Homeless Families Study”) or related follow-up studies. Abt Associates will not disclose the data to additional parties without the written authority of the providing organization, except where required by law.

Policies and practices for storing, retrieving, accessing, retaining, and disposing of records in the system:

Safeguards:

The following safeguards shall be used to secure data in storage, retrieval, during access, and disposal.

■ All personal data (identifiable and de-identified data analyses files) will be encrypted and maintained on a secure workstation or server that is protected by a firewall, complex passwords, and multi-authentication factors, in a directory that can only be accessed by the network administrators and the analysts actively working on the data.

■ Data on the secure server will be encrypted using an industry standard algorithm incorporating at least 128-bit encryption. The decryption key will only be known to analysts actively working with the data.

■ Separate data files will be maintained for each questionnaire and for identifying information. Data files used for analysis will be stored in a separate location from files with identifying information to minimize the risk that an unauthorized user could use the unique identification number to link de-identified files with the identifiers. The unique identification number will be protected through multi-mode authentication, in addition to encryption technologies.

■ Access rights to the data are granted to limited researchers on a need-to-know basis, and the level of access provided to each researcher is based on the minimal level required that individual to fulfill his research role.

■ Abt Associates will backup the data on a regular basis to safeguard against system failures or disasters. Only encrypted versions of the data will be copied to the backup media. Unencrypted data will never be stored on a laptop or on a movable media such as CDs, diskettes, or USB flash drives.

■ If an authorized researcher leaves employment or is no longer working on this project, their user ID and access will be terminated within one day, as will VPN access. These steps will be documented as part of termination process.

■ The site interviewers will securely store any hard copy documents with personal protected information, such as signed consent forms, tracking letters, or interview appointment schedules.

Consent Forms. After the family signs the informed consent form, the site interviewers will seal the form in an envelope at the conclusion of the interview. Envelopes will be stored in a box in the trunk of the interviewer's car until the interviewer returns home. Once home, the interviewers will complete all necessary paperwork and will submit the completed surveys to the Abt Project Director via FedEx signature required.

Tracking documentation. Each site interviewer must store any tracking letters, appointment schedules, or other documentation with personal protected information, such as name, in a locked cabinet that can only be accessed by the interviewer. Tracking documentation with personal protected information should not be generated until needed in the tracking process to limit risk of unauthorized disclosures. Site interviewers should use study IDs in lieu of personal protected information on tracking documentation whenever feasible to limit risk of unauthorized disclosures.

All hard copy forms with personal identifying data (the participant agreement/informed consent form) will be stored securely in a locked cabinet that can only be accessed by authorized individuals working on the data. The locked cabinet will be stored in a locked office in a limited-access building.

Hard copy forms that are no longer needed for the study will be shredded. If site interviewers do not have access to a paper shredder, they will submit the paperwork to the Abt Project Director via FedEx with clear instructions to destroy the documents upon receipt.

Retrieving:

The random assignment datafile within this system will include personal identifiers that can be used to locate records to update families' whereabouts or to verify if a family has already been enrolled in the study. Records within the random assignment datafile can be retrieved by name, social security number, study identification number, birthdate, or spouse name.

After data collection is complete, researchers will use a dataset that is stripped of identifying information for all analyses, with the exception of a unique study identification number assigned to each participating family. The study identification number will be randomly generated at the time of random assignment and will be unrelated to personal information such as SSN, DOB, or name. The study identifier can be linked to the personal identifying information but only by a small number of central research staff at Abt Associates.

Retention and disposal:

PII will be maintained only as long as required and only under conditions specified in the study protocol. Upon completion of all research for the Homeless Families study, Abt Associates will permanently destroy of all electronic personally-identifiable information on the working server using one of the methods described by the NIST SP 800-88.

“Guidelines for Media Sanitization” (September 2006). Encrypted versions of the data may remain on backup media for a longer period of time, but will be similarly permanently destroyed.

At the end of the contract, records that do not need to be retained will be shredded and the remainder of the files will be shredded after the three-year retention period required in the contract. The retention and disposal procedures are in keeping with HUD's records management policies as described in HUD Records Disposition Schedules (2225.6) Appendix 67.

System manager(s) and address:

Carol Star, Director of the Program Evaluation Division, Office of Policy Development and Research, Department of Housing and Urban Development, 451 Seventh Street, SW., Washington, DC 20410, Telephone Number (202) 402-6139.

Notification procedure:

For information, assistance, or inquiry about existence or records, contact Donna Robinson-Stanton, Departmental Privacy Act Officer, Department of Housing and Urban Development, 451 Seventh Street, SW., Washington, DC, in accordance with the procedures in 24 CFR part 16.

Record access procedures:

The Department's rules for providing access to records to the individual concerned appear in 24 CFR part 16. If additional information or assistance is required, contact the Privacy Act Officer at the appropriate location.

Contesting record procedures:

The Department's rules for contesting the contents of records and appealing initial denials, by the individual concerned, appear in 24 CFR part 16. If additional information or assistance is needed, it may be obtained by contacting:

(i) In relation to contesting contents of records, the Departmental Privacy Act, Department of Housing and Urban Development, 451 Seventh Street, SW., Room 2256, Washington, DC 20410.

(ii) In relation to appeals of initial denials, the HUD Departmental Privacy Appeals Officers, Office of General Counsel, Department of Housing and Urban Development, 451 Seventh Street, SW., Washington, DC 20410.

Record source categories:

Original data collected directly from participating families, third party data for tracking purposes (e.g. National Change of Address database, credit bureaus), and administrative data on HUD's public housing programs.

Exemption from certain of provision of the Act:

None.

[FR Doc. 2010-24746 Filed 10-1-10; 8:45 am]

BILLING CODE 4210-67-P